DEPARTMENT OF ENERGY

Federal Energy Regulatory Commission

[Docket No. IC03-714-001, FERC Form 714]

Commission Information Collection Activities, Proposed Collection; Comment Request; Submitted for OMB review

August 21, 2003.

AGENCY: Federal Energy Regulatory Commission.

ACTION: Notice.

SUMMARY: In compliance with the requirements of Section 3507 of the Paperwork Reduction Act of 1995, 44 U.S.C. 3507, the Federal Energy Regulatory Commission (Commission) has submitted the information collection described below to the Office of Management and Budget (OMB) for reinstatement, review and a new expiration date. Any interested person may file comments directly with OMB and should address a copy of those comments to the Commission as explained below. The Commission received no comments in response to an earlier Federal Register notice of March 31, 2003 (68 FR 15441) and has made this notation in its submission to OMB.

DATES: Comments on the collection of information are due by September 26, 2003.

ADDRESSES: Address comments on the collection of information to the Office of Management and Budget, Office of Information and Regulatory Affairs, Attention: Federal Energy Regulatory Commission Desk Officer. The Desk Officer may be reached by fax at 202-395-7285 or by e-mail at pamelabeverly.oirasubmission@omb.eop.gov. A copy of the comments should also be sent to the Federal Energy Regulatory Commission, Office of the Executive Director, ED-30, Attention: Michael Miller, 888 First Street NE., Washington, DC 20426. Comments may be filed either in paper format or electronically. Those persons filing electronically do not need to make a paper filing. For paper filings, such comments should be submitted to the Office of the Secretary, Federal Energy Regulatory Commission, 888 First Street, NE. Washington, DC 20426 and should refer to Docket No. IC03-714-001.

Documents filed electronically via the Internet must be prepared in WordPerfect, MS Word, Portable Document Format, or ASCII format. To file the document, access the Commission's Web site at http://www.ferc.gov and click on “Make an E-filing,” and then follow the instructions for each screen. First time users will have to establish a user name and password. The Commission will send an automatic acknowledgment to the sender's E-mail address upon receipt of comments. User assistance for electronic filings is available at 202-502-8258 or by e-mail to efiling@ferc.gov. Comments should not be submitted to the e-mail address.

All comments may be viewed, printed or downloaded remotely via the Internet through FERC's homepage using the FERRIS link. For assistance, please contact FERC Online Support at FERCOnlineSupport@ferc.gov or toll free at (866) 208-3676, for TTY (202)502-8659.

FOR FURTHER INFORMATION CONTACT: Michael Miller may be reached by telephone at (202) 502-8415, by fax at (202) 273-0873, and by e-mail at michael.miller@ferc.gov.

SUPPLEMENTARY INFORMATION:

Description

The information collection submitted for OMB review contains the following:

1. Collection of Information: FERC Form 714 Annual Electric Control and Planning Area Report@.

2. Sponsor: Federal Energy Regulatory Commission.

3. Control No.: 1902-0140.

The Commission is now requesting that OMB reinstate and approve this information collection for a period of three years with no changes to the existing collection. The information filed with the Commission is mandatory.

4. Necessity of the Collection of Information: Submission of the information is necessary to enable the Commission to carry out its responsibilities in implementing the statutory provisions of Sections 202, 207, 210, 211-213, 304, 309 and 311 of the Federal Power Act (FPA), as amended (49 Stat. 838; 16 U.S.C. 791a-825r) and Section 3(4) of the Public Utility Regulatory Policies Act of 1978 (26 U.S.C. 2602). The Commission implements Form No. 714 filing requirements in the Code of Federal Regulations (CFR) under 18 CFR part 141.51. FERC Form No. 714 gathers basic utility operating and planning information, primarily on a control area basis, for the purpose of evaluating utility operations related to proposed mergers, interconnections, wholesale rate investigations, and wholesale market changes and trends under emerging competitive forces. Such evaluations are made to assess reliability, costs and other operating attributes.

5. Respondent Description: The respondent universe currently comprises approximately 238 public utilities.

6. Estimated Burden: 17,850 total hours, 238 respondents (average), 75 hours per respondent (average), one response per year.

7.Estimated Burden: Estimated Cost Burden to respondents: 17,850 hours × 2080 hours per years × $117,041 per year = $1,004,414. The cost per respondent is equal to $4,220.

Statutory Authority: Sections 202, 207, 210, 211-213, 304, 309, and 311 of the Federal Power Act (FPA), as amended (49 Stat. 838; 16 U.S.C. 791a-825r) and Section 3(4) of the Public Utility Regulatory Policies Act, 26 U.S.C. 2602.

Magalie R. Salas,
Secretary.

[FR Doc. 03-21997 Filed 8-27-03; 8:45 am]

BILLING CODE 6717-01-P